DEPARTMENT OF THE INTERIOR

Fish and Wildlife Service

Notice of Issuance of Permit for Marine Mammals

On April 18, 2001, a notice was published in the Federal Register (66 FR 19979), that an application had been filed with the Fish and Wildlife Service by National Biological Services, Alaska Biological Science Center, Anchorage, Alaska, for renewal of a permit (PRT-801652). The applicant requested renewal of their permit to capture, immobilize, tag, implant transmitters, collect blood, tissue and whisker samples, biopsy, and release walrus from the wild to continue scientific research to develop reliable methods for anesthetizing and holding walrus, develop methods for attaching transmitters and testing these devises in determining walrus movements, diving and haulout patterns, and collect data on physiological status and life history parameters of walrus. The applicant also intends to import biological samples collected from walrus outside of the United States.

Notice is hereby given that on October 10, 2001, as authorized by the provisions of the Marine Mammal Protection Act of 1972, as amended (16 U.S.C. 1361 et seq.) the Fish and Wildlife Service authorized the requested permit subject to certain conditions set forth therein.

On June 15, 2001, a notice was published in the Federal Register (66 FR 32636), that an application had been filed with the Fish and Wildlife Service by California Department of Fish and Game, Santa Cruz, California, for a permit (PRT-039953) to take and hold Southern sea otters (Enhydra lutris nereis) for rehabilitation purposes.

Notice is hereby given that on October 10, 2001, as authorized by the provisions of the Marine Mammal Protection Act of 1972, as amended (16 U.S.C. 1361 et seq.) the Fish and Wildlife Service authorized the requested activities under a Letter of Authorization subject to certain conditions set forth therein.

On August 29, 2001, a notice was published in the Federal Register (66 FR 45689), that an application had been filed with the Fish and Wildlife Service by Thomas Edward Ferry for a permit (PRT-043735) to import one polar bear (Ursus maritimus), taken from the Viscount Melville population, Canada for personal use.

Notice is hereby given that on October 9, 2001, as authorized by the provisions of the Marine Mammal Protection Act of 1972, as amended (16 U.S.C. 1361 et seq.) the Fish and Wildlife Service authorized the requested permit subject to certain conditions set forth therein.

On June 15, 2001, a notice was published in the Federal Register (66 FR 32636), that an application had been filed with the Fish and Wildlife Service by Bruce DeShano for a permit (PRT-043824) to import one polar bear (Ursus maritimus), taken from the Northern Beaufort Sea population, Canada for personal use.

Notice is hereby given that on October 4, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: October 19, 2001.
Michael S. Moore,
Senior Permit Biologist, Branch of Permits, Division of Management Authority.

[FR Doc. 01-27941 Filed 11-6-01; 8:45 am]

BILLING CODE 4310-55-P